DEPARTMENT OF EDUCATION

National Advisory Committee on Institutional Quality and Integrity, (National Advisory Committee); Meeting

Agency: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on December 8, 2003 from 12:30 p.m. until approximately 5:30 p.m., and on December 9, 2003 from 8:30 a.m. until approximately 12:30 p.m. in the Ballroom at the Hilton Garden Inn, 815 14th Street, NW., Washington, DC 20005. You may call the hotel on (202) 783-7800 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Bonnie LeBold, the Executive Director of the National Advisory Committee on Institutional Quality and Integrity, if you have questions about the meeting. You may contact her at the U.S. Department of Education, room 7007, MS 7592, 1990 K St., NW., Washington, DC 20006, telephone: (202) 219-7009, fax: (202) 219-7008, e-mail: Bonnie.LeBold@ed.gov. Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What Are the Functions of the National Advisory Committee?

The Committee advises the Secretary of Education about:

• The establishment and enforcement of the criteria for recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include the review of agencies that have submitted petitions for renewal of recognition, submitted progress reports, or submitted interim reports. In addition, the National Advisory Committee will discuss the current status of proposals pertaining to the reauthorization of the Higher Education Act, as amended.

Please note that the agency listed below, which was originally scheduled for review during the National Advisory Committee's December 2003 meeting, will be postponed for review until the June 2004 meeting.

• Accrediting Bureau of Health Education Schools

Any third-party written comments regarding this agency that were received by September 18, 2003, in accordance with the Federal Register notice published on August 4, 2003, will become part of the official record. Those comments will be considered by the National Advisory Committee when it reviews the agency's petition for renewal of recognition at the June 2004 meeting. Another opportunity to provide written comments on the agency prior to that meeting will be announced in a Federal Register notice requesting written comments.

What Agencies Will the Advisory Committee Review at the Meeting?

The Advisory Committee will review the following agencies during its December 8-9, 2003 meeting.

Nationally Recognized Accrediting Agencies

Interim Reports

(An interim report is a follow-up report on an accrediting agency's compliance with specific criteria for recognition that was requested by the Secretary when the Secretary granted renewed recognition to the agency.)

1. Accrediting Commission on Education for Health Services Administration.

2. American Board of Funeral Service Education.

3. Association of Advanced Rabbinical and Talmudic Schools.

4. National Council for Accreditation of Teacher Education.

Progress Reports

1. Southern Association of Colleges and Schools, Commission on Colleges (This is a report on the agency's implementation of its new standards).

2. Western Association of Schools and Colleges, Accrediting Commission for Schools (This is a report on the agency's action plan for coming into compliance with criteria for recognition).

State Agencies Recognized for the Approval of Public Postsecondary Vocational Education

Petition for Renewal of Recognition

1. Missouri State Board of Education (Current scope of recognition: The approval of public, postsecondary vocational education in the State of Missouri).

At its June 2003 meeting, the Advisory Committee had recommended that review of this agency's petition for continued recognition be deferred until the Committee's December 2003 meeting, and the Secretary had concurred with that recommendation.

Interim Report

1. New York Board of Regents (Public Postsecondary Vocational Education Unit).

State Agency Recognized for the Approval of Nurse Education

Interim Report

1. North Dakota Board of Nursing.

Who Can Make Third-Party Oral Presentations at This Meeting?

We invite you to make a third-party oral presentation before the National Advisory Committee concerning the recognition of any agency published in this notice.

How Do I Request To Make an Oral Presentation?

You must submit a written request to make an oral presentation concerning an agency listed in this notice to the contact person so that the request is received via mail, fax, or e-mail no later than November 18, 2003. Your request (no more than 6 pages maximum) must include:

1. The names, addresses, phone numbers, and fax numbers of all persons seeking an appearance,

2. The organization they represent, and

3. A brief summary of the principal points to be made during the oral presentation.

If you wish, you may attach documents illustrating the main points of your oral testimony. Please keep in mind, however, that any attachments are included in the 6-page limit.Please do not send materials directly to Committee members. Only materials submitted by the deadline to the contact person listed in this notice and in accordance with these instructions become part of the official record and are considered by the Committee in its deliberations. Documents received after the November 18, 2003 deadline will not be distributed to the Advisory Committee for their consideration. Individuals making oral presentations may not distribute written materials at the meeting.

If I Cannot Attend the Meeting, Can I Submit Written Comments Regarding an Accrediting Agency in Lieu of Making an Oral Presentation?

This notice requests third-party oral testimony, not written comment. A request for written comments on agencies that are being reviewed during this meeting was published in the Federal Register on August 4, 2003. The Advisory Committee will receive and consider only written comments submitted by the deadline specified in that Federal Register notice.

How Do I Request To Present Comments Regarding General Issues Rather Than Specific Accrediting Agencies?

At the conclusion of the meeting, the Committee, at its discretion, may invite attendees to address the Committee briefly on issues pertaining to the functions of the Committee, which are listed earlier in this notice. If you are interested in making such comments, you should inform Ms. LeBold before or during the meeting.

How May I Obtain Access to the Records of the Meeting?

We will record the meeting and make a transcript available for public inspection at the U.S. Department of Education, 1990 K St., NW., Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Authority: 5 U.S.C. appendix 2.

Dated: October 1, 2003.
Wilbert Bryant,
Acting Assistant Secretary, Office of Postsecondary Education.

[FR Doc. 03-25289 Filed 10-3-03; 8:45 am]

BILLING CODE 4000-01-P